FEDERAL DEPOSIT INSURANCE CORPORATION

Notice of Agency Meeting

Pursuant to the provisions of the “Government in the Sunshine Act” (5 U.S.C. 552b), notice is hereby given that at 10:04 p.m. on Sunday, November 23, 2008, the Board of Directors of the Federal Deposit Insurance Corporation met in closed session to consider matters relating to an open bank assistance transaction.

In calling the meeting, the Board determined, on motion of Vice Chairman Martin J. Gruenberg, seconded by Chairman Sheila C. Bair, concurred in by Director John M. Reich (Director, Office of Thrift Supervision), Director Thomas J. Curry (Appointive), and Director John C. Dugan (Comptroller of the Currency), that Corporation business required its consideration of the matters on less than seven days' notice to the public; that no earlier notice of the meeting was practicable; that the public interest did not require consideration of the matters in a meeting open to public observation; and that the matters could be considered in a closed meeting by authority of subsections (c)(4), (c)(8), (c)(9)(A)(ii), and (c)(9)(B) of the “Government in the Sunshine Act” (5 U.S.C. 552b(c)(4), (c)(8), (c)(9)(A)(ii), and (c)(9)(B)).

The meeting was held in the Board Room of the FDIC Building located at 550 17th Street, NW., Washington, DC.

Dated: November 24, 2008.
Federal Deposit Insurance Corporation.
Robert E. Feldman,
Executive Secretary.

[FR Doc. E8-28264 Filed 11-26-08; 8:45 am]

BILLING CODE 6714-01-P